FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction No. | Acquiring | Acquired | Entities
TRANSACTIONS GRANTED EARLY TERMINATION—10/01/2007
20072121 | Fjarfestingafelagid Gaumur ehf | Saks Inc | Saks Inc.
20072158 | Applera Corporation | Berkeley Heartlab, Inc | Berkeley Heartlab, Inc.
20072164 | Johnson & Johnson | Isis Pharmaceuticals, Inc | Isis Pharmaceuticals, Inc.
20072203 | Paramount Acquisition Corp | Mr. Jerry Silva | B.J.K. Inc.
20072206 | Genstar Capital Partners V, L.P | PRA International | PRA International.
20072207 | Targa Resources Partners LP | Targa Resources Investments Inc | Targa Louisiana Field Services LLC; Targa Resources Texas GP LLC; Targa Texas Field Services LP.
TRANSACTIONS GRANTED EARLY TERMINATION—10/02/2007
20072138 | Alpharma Inc | IDEA AG | IDEA AG.
20072154 | Bayer AG | Mission Pharmacal Company | Mission Pharmacal Company.
20072159 | Yahoo! Inc | BlueLithium, Inc | BlueLithium, Inc.
20072180 | International Business Machines Corporation | Telelogic AB | Telelogic AB.
20072211 | Blue Cross Blue Shield of Michigan | Trident III, L.P | CWI Holdings, Inc.
TRANSACTIONS GRANTED EARLY TERMINATION—10/03/2007
20072139 | JSW Steel Limited | Mr. P.R. Jindal | Jindal Pipes USA, Inc.; U.S. Denro Steels, Inc.
20072140 | JSW Steel Limited | Jindal Saw Limited | Jindal Enterprises, LLC.
TRANSACTIONS GRANTED EARLY TERMINATION—10/04/2007
20072149 | 2003 TIL Settlement | Deloitte and Touche USA LLP | Deloitte Tax LLP.
20072192 | Mr. Summer M. Redstone | GGC Investment Fund II, L.P | SignStorey, Inc.
TRANSACTIONS GRANTED EARLY TERMINATION—10/05/2007
20072162 | Abrams Auto Holdings, LLC | Clair International, Inc | Clair International of Westwood, Inc.
20072213 | HD Partners Acquisition Corporation | National Hot Rod Association | National Hot Rod Association.
20072219 | Humana Inc | KMG America Corporation | KMG America Corporation.
20072222 | Summit Partners Private Equity Fund VII-A, L.P | Touro College | Touro University.
20072223 | Hilb Rogal & Hobbs Company | Bank of America Corporation | Bank of America Corporate Insurance Agency, LLC; Philadelphia Benefits, LLC.
20072227 | NetScout Systems, Inc | Network General Central Corporation | Network General Corporation.
20072232 | Parthenon Investors III, L.P | ASG Holdings LLC | ASG Holdings LLC.
20072233 | Orica Limited | Mining Systems Holding LLC | Mining Systems Holding LLC.
20072239 | Sevin Rosen Fund IX L.P | Citrix Systems, Inc | Citrix Systems, Inc.
TRANSACTIONS GRANTED EARLY TERMINATION—10/09/2007
20072197 | Allergan, Inc | Esprit Pharma Holding Company, Inc | Esprit Pharma Holding Company, Inc.
TRANSACTIONS GRANTED EARLY TERMINATION—10/10/2007
20072175 | Icahn Partners Master Fund LP | BEA Systems, Inc | BEA Systems, Inc.
20072176 | Carl C. Icahn | BEA Systems, Inc | BEA Systems, Inc.
20072177 | Icahn Partners Master Fund II L.P | BEA Systems, Inc | BEA Systems, Inc.
20072178 | Icahn Partners LP | BEA Systems, Inc | BEA Systems, Inc.
20072210 | Hewlett-Packard Company | Court Square Capital Partners II, L.P | MacDermid Colorspan, Inc.
20072217 | Varel Acquisition Holding, Inc | KRG Capital Fund II, L.P | Varel Holdings, Inc.
20072231 | OZ Master Fund, Ltd | Smart Balance, Inc | Smart Balance, Inc.
20072241 | USPF III Leveraged Feeder, L.P | The Goldman Sachs Group, Inc | Calypso Energy Holdings LLC.
20072244 | AT&T Inc | James and Jean Douglas, Jr | Easterbrooke Cellular Corporation.
20072251 | Extendicare Real Estate Investment Trust | Dr. Louis B. Lukenda | Tendercare (Michigan) Inc.; Tendercare Nursing Homes (Indiana) Inc.
TRANSACTIONS GRANTED EARLY TERMINATION—10/11/2007
20072169 | Bristol-Myers Squibb Company | Adnexus Therapeutics, Inc | Adnexus Therapeutics, Inc.
20072200 | Harbinger Capital Partners Offshore Fund I, Ltd | HP V AIV-1, L.P | Hourglass Holdings, LLC.
20080002 | Molina Healthcare, Inc | Sisters of Mercy Health System | Alliance for Community Health, L.L.C.
TRANSACTIONS GRANTED EARLY TERMINATION—10/12/2007
20070333 | UPMC d/b/a University of Pittsburgh Medical Center | Catholic Health East | Emergency Medicine Association; Mercy Neurosurgery Group; Mercy Physicians Group; Mercy Primary Care, Inc.; The Mercy Hospital of Pittsburgh.
20072220 | Provident Energy Trust | Quicksilver Resources Inc | Beaver Creek Pipeline, L.L.C.; GTG Pipeline Corporation; Mercury Michigan, Inc.; Terra Energy Ltd.
20072230 | Charles W. Ergen | Sling Media, Inc | Sling Media, Inc.
20072237 | Key Energy Services, Inc | L. Charles Moncla, Jr | LCM Industries, LLC; Moncla Well Service, Inc.
20072252 | Quadrangle Capital Partners II LP | NTELOS Holdings Corp | NTELOS Holdings Corp.
20080006 | Rothschild Concordia SAS | Paris-Orleans S.A | Paris-Orleans S.A.

FOR FURTHER INFORMATION CONTACT: Sandra M. Peay, Contact Representative, or Renee Hallman, Contact Representative, Federal Trade Commission, Premerger Notification Office, Bureau of Competition, Room H-303, Washington, DC 20580, (202) 326-3100.

By direction of the Commission.
Donald S. Clark,
Secretary.

[FR Doc. 07-5244 Filed 10-23-07; 8:45 am]

BILLING CODE 6750-01-M